DEPARTMENT OF HEALTH AND HUMAN SERVICES

Food and Drug Administration

21 CFR Part 1005

[Docket No. FDA-2007-N-0091; (formerly 2007N-0104)]

Service of Process on Manufacturers; Manufacturers Importing Electronic Products Into the United States; Agent Designation; Change of Address

AGENCY: Food and Drug Administration, HHS.

ACTION: Final rule; technical amendment.

SUMMARY: The Food and Drug Administration (FDA) is amending a final rule that appeared in the Federal Register of April 9, 2007 (72 FR 17397 at 17401) to reflect changes to the Center for Devices and Radiological Health's address. This action is editorial in nature and is intended to improve the accuracy of the Agency's regulations.

DATES: This rule is effective March 26, 2013

FOR FURTHER INFORMATION CONTACT: Prince P. Kangoma, Center for Devices and Radiological Health, Food and Drug Administration, 10903 New Hampshire Ave. Bldg. 66, rm. G628B, 301-796-6627, FAX: 301-595-7850, email: Prince.Kangoma@fda.hhs.gov.

SUPPLEMENTARY INFORMATION: FDA is making technical amendments in the Agency's regulations under 21 CFR 1005.25(b) as a result of an office relocation. The former address was 9200 Corporate Blvd., Rockville, MD 20850. The new address is 10903 New Hampshire Ave., Silver Spring, MD 20993-0002. Designation of agent by manufacturers of electronic products offering such products for importation into the United States must be addressed to the Center for Devices and Radiological Health, Document Mail Center—WO66-G609. Publication of this document constitutes final action of these changes under the Administrative Procedures Act (5 U.S.C. 553). Notice and public procedures are unnecessary because FDA is merely updating nonsubstantive content.

List of Subjects in 21 CFR Part 1005

Administrative practice and procedure; Electronic product; Imports; Radiation protection; Surety bonds.

Therefore, under the Federal Food, Drug, and Cosmetic Act and under authority delegated to the Commissioner of Food and Drugs, 21 CFR part 1005 is amended as follows:

PART 1005—IMPORTATION OF ELECTRONIC PRODUCTS

1. The authority citation for 21 CFR part 1005 continues to read as follows:

Authority: 21 U.S.C. 360ii, 360mm.

§ 1005.25 [Amended]

2. Section 1005.25(b) is amended by removing “Center for Devices and Radiological Health (HFZ-240), 9200 Corporate Blvd., Rockville, MD 20850” and by adding in its place “Center for Devices and Radiological Health, 10903 New Hampshire Ave., Document Mail Center—WO66-G609, Silver Spring, MD 20993-0002”.

Dated: March 20, 2013.
Leslie Kux,
Assistant Commissioner for Policy.

[FR Doc. 2013-06864 Filed 3-25-13; 8:45 am]

BILLING CODE 4160-01-P